NUCLEAR REGULATORY COMMISSION

[DOCKET NO. 70-734]

Environmental Assessment and Finding of No Significant Impact for General Atomics' Request To Amend Special Nuclear Material License SNM-696

I. Introduction

The NRC is considering an amendment to General Atomics' (GA's) NRC Special Nuclear Material License SNM-696. The proposed amendment will revise the material possession limits in its license to reflect the actual amount of inventory currently on its site. An Environmental Assessment (EA) was performed by the NRC staff in support of its review of GA's license amendment request, in accordance with the requirements of 10 CFR Part 51. The conclusion of the EA is a Finding of No Significant Impact (FONSI) for the proposed licensing action.

II. Supplementary Information

Background

GA was formerly authorized by the NRC and its predecessor, the Atomic Energy Commission, to use special nuclear material in nuclear fuel fabrication and research and development pursuant to its license SNM-696. However, following submittal by GA of applications dated September 26, 1995, and June 14 and July 19, 1996, on September 26, 1996, the NRC amended GA's license to authorize only activities incident to decommissioning. On April 29, 1998, the NRC further amended GA's license to incorporate the Decommissioning Plan. 63 FR 20671.

Since issuance of these license amendments, GA has decommissioned a number of areas of its site and has removed a significant amount of licensed material. GA has removed this material by either transferring the material to licensed recipients or shipping the material to a licensed disposal facility.

By license application dated October 31, 2002 (ADAMS Accession No. ML023160041), GA requested that its license SNM-696 be amended to reduce the limits in its license to reflect the reduction in its inventory of special nuclear material that has resulted from its ongoing decommissioning activities. The initial application indicated that the license authorized GA to acquire, deliver, receive, possess, use and transfer SNM. GA submitted a corrected application dated November 7, 2002 (ADAMS Accession No. ML023220032), deleting the words “acquire,” “receive,” and “use,” from the initial application, to correctly reflect that GA is authorized only to possess, transfer, and ship special nuclear material.

Identification of the Proposed Action

The proposed action would be to amend GA's license to reflect the reduced amount of special nuclear material remaining on its site. The previous and revised possession limits are listed in the following table:

SNM | Chemical or physical form | Previous possession limit | Revised possession limit
A. Uranium | Enriched up to 19.99% U-235 | ¹ 200 | Less than 10 kilograms U-235.
B. Uranium | Enriched 20-100% U-235 | ² 5000 | Less than 1,000 gm.³
C. U-233 | Any | ² 2000 | Less than 100 gm U-233.³
D. Plutonium | Encapsulated and/or sealed sources | ² 2000 | Less than 100 gm total Pu.³
E. Plutonium | Bred but unseparated | ² 1000 | Less than 50 gm total Pu.³
F. Plutonium | Plated calibration sources | ² 5 | Less than 5 grams total Pu.³
G. Plutonium | Solutions, precipitates, solids | ² 5 | Less than 5 grams total Pu.³
¹ Gram.
² Kilogram.
³ The sum total quantity of strategic special nuclear material possessed at any one time must be less than 1,000 grams computed by the formula: Grams = grams U-235 in uranium enriched to 20% or more plus 2 x (grams U-233 + grams plutonium).

Purpose and Need for the Proposed Action

The proposed action would bring the possession limits section of GA's license into conformance with the amounts of special nuclear material actually remaining on site.

Cumulative Impacts

NRC has found no other current or planned activities in the area that would result in cumulative impacts.

Alternatives to the Proposed Action

An alternative to the proposed action would be for the NRC staff to deny the licensee's request. The licensee would then continue to be authorized to possess larger quantities of special nuclear material on the site; however, it would also continue to be prohibited from acquiring, receiving, or using special nuclear material, in accordance with its current license.

Affected Environment

The affected environment is the GA site in La Jolla, California. It is described in the Site Decommissioning Plan, dated October 11, 1996. Since the Site Decommissioning Plan was approved, GA has decontaminated and decommissioned several areas of the site, and these areas have been released for unrestricted use and have been deleted from GA's license.

Environmental Impacts of the Proposed Action

There are no environmental impacts of the proposed action. The license amendment revises the license to reflect the current condition of the site, and does not authorize any change in activities.

State Consultation

NRC staff discussed this proposed action with Ms. Sudana Kwok, Project Manager of GA's byproduct material license with the California Department of Health Services, Radiologic Health Branch. The DHS/RHB is in agreement with the proposed action and has no comments.

III. Finding of No Significant Impact

Based upon the foregoing environmental assessment, the staff concludes that the proposed action will not have a significant effect on the quality of the human environment. Accordingly, the staff has determined that preparation of an environmental impact statement is not warranted.

IV. Further Information

The following documents are related to the proposed action.

References

Code of Federal Regulations (CFR) title 10, chapter I—Nuclear Regulatory Commission, part 51, Environmental Protection Regulations for Domestic Licensing and Related Regulatory Functions.

Code of Federal Regulations (CFR) title 10, chapter I—Nuclear Regulatory Commission, part 70, Domestic Licensing of Special Nuclear Material.

General Atomics, Docket No. 70-734; SNM-696; Submittal of Corrected Revised Section 1 (Material License Limits) of Part II “Specifications Volume” of SNM-696, November 7, 2002 (ADAMS Accession No. 023220032).

Nuclear Regulatory Commission; General Atomics Amendment 75; December 9, 2002; NRC Form 374 Sections 6., 7., and 8 (ADAMS Accession No. ML023250261).

These references may be examined and/or copied for a fee at the NRC's Public Document Room, located at One White Flint North, 11555 Rockville Pike, Rockville, MD 20852. The references with ADAMS accession numbers may also be viewed in the NRC's Electronic Public Document Reading Room at http://www.nrc.gov/reading-rm/adams.html. Any questions with respect to his action should be referred to Ms. Mary Adams, Fuel Cycle Facilities Branch, Division of Fuel Cycle Safety and Safeguards, U.S. Nuclear Regulatory Commission, Mail Stop T-8 A33, Washington, DC 20555-0001. Telephone (301) 415-7249.

Dated at Rockville, Maryland, this 14th day of February, 2003.
For the Nuclear Regulatory Commission.
Daniel M. Gillen,
Fuel Cycle Facilities Branch, Division of Fuel Cycle Safety and Safeguards, Office of Nuclear Material Safety and Safeguards.

[FR Doc. 03-4262 Filed 2-21-03; 8:45 am]

BILLING CODE 7590-01-P